FEDERAL COMMUNICATIONS COMMISSION

Sunshine Act Meeting; Deletion of Agenda Item From May 14, 2008, Open Meeting

May 13, 2008.

The following has been deleted from the list of Agenda items scheduled for consideration at the May 14, 2008, Open Meeting and previously listed in the Commission's Notice of May 7, 2008, 73 FR 26991, May 12, 2008. This item has been adopted by the Commission.

Item No. | Bureau | Subject
1 | Wireless Telecommunications | Title: Implementation of Sections 309(j) and 337 of the Communications Act of 1934 as Amended (WT Docket No. 99-87); Promotion of Spectrum Efficient Technologies on Certain Part 90 Frequencies (RM-9332).
|  | Summary: The Commission will consider a Fourth Memorandum Opinion and Order addressing a petition for reconsiderations and a request for clarification of the Third Report and Order.

Federal Communications Commission.
Marlene H. Dortch,
Secretary.

[FR Doc. 08-1273 Filed 5-15-08; 12:34 pm]

BILLING CODE 6712-01-P